DEPARTMENT OF JUSTICE

Antitrust Division

Notice Pursuant to the National Cooperative Research and Production Act of 1993—Gaming Standards Association

Notice is hereby given that, on March 6, 2003, pursuant to section 6(a) of the National Cooperative Research and Production Act of 1993, 15 U.S.C. 4301 et seq. (“the Act”), the Gaming Standards Association (GSA) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identifies of the parties are: 3M Touch Systems, Methuen, MA; Acres Gaming, Las Vegas, NV; Aristocrat Technologies, Inc., Las Vegas, NV; AstroSys International Ltd, Las Vegas, NV; Atronic Americas, LLC, Scottsdale, AZ; Austrian Gaming Industries GMbH, Lower Austria, AUSTRIA; Bally Gaming & Systems, Inc., Sparks, NV; Boyd Gaming Corporation, Las Vegas, NV; CashCode, Inc., Concord, Ontario, CANADA; Casino Management Association (CMA), St. Louis, MO; Coin Mechanisms, Inc., Glendale Heights, IL; Elo Touchsystems, Fremont, CA; Ensico d.o.o., Ljubljana, SLOVENIA; European Gaming Organisation (EGO), Lelystad, THE NETHERLANDS; Foxwoods Resort Casino, Mashantucket, CT; Friedberg & Associates, Woodinville, WA; Gaming Consultants International, Dingley, Victoria, AUSTRALIA; Global Payment Technologies, Hauppauge, NY; Gold Club, Sezana, SLOVENIA; Harrah's Entertainment, Las Vegas, NV; Himecs Co., Ltd, Tokyo, JAPAN; IDX, Inc., El Dorado, AR; IGT-International Game Technology, Reno, NV; Isle of Capri Casinos, Inc., Biloxi, MS: JCM American, Inc., Las Vegas, NV; Konami Gamin, Inc., Las Vegas, NV; Mandalay Resort Group, Jean, NV; Mars Electronics, West Chester, PA; Mikohn Gaming Corporation, Las Vegas, NV; MIS-Group, Grambach, AUSTRIA; Money Controls/ARDAC, Inc., Eastlake, OH; Park Place Entertainment, Las Vegas, NV; Scientific Games Corporation, Las Vegas, NV; Shuffle Master Gaming, Inc., Las Vegas, NV; Sierra Design Group, Reno, NV; Sigma Game, Inc., Las Vegas, NV; Spielo Manufacturing, Inc., Dieppe, New Brunswick, CANADA; Station Casinos, Las Vegas, NV; TransAct Technologies, Inc., Ithaca, NY; Unidesa, Barcelona, SPAIN; Universal Distributing, Las Vegas, NV; University of Nevada-Las Vegas, Las Vegas, NV; and WMS Gaming, Inc., Chicago, IL. The nature and objectives of the venture are to identify, define, develop, promote, and implement open standards to enable innovation, education, and communication for the benefit of the gaming industry.

Constance K. Robinson,
Director of Operations, Antitrust Division.

[FR Doc. 03-7713 Filed 3-31-03; 8:45 am]

BILLING CODE 4410-11-M